ENVIRONMENTAL PROTECTION AGENCY

[ER-FRL-8990-9]

Environmental Impacts Statements; Notice of Availability

Responsible Agency: Office of Federal Activities, General Information (202) 564-1399 or http://www.epa.gov/compliance/nepa/.

Weekly receipt of Environmental Impact Statements.

Filed 06/07/2010 Through 06/11/2010.

Pursuant to 40 CFR 1506.9.

Notice

In accordance with Section 309(a) of the Clean Air Act, EPA is required to make its comments on EISs issued by other Federal agencies public. Historically, EPA has met this mandate by publishing weekly notices of availability of EPA comments, which includes a brief summary of EPA's comment letters, in the Federal Register. Since February 2008, EPA has been including its comment letters on EISs on its Web site at: http://www.epa.gov/compliance/nepa/eisdata.html. Including the entire EIS comment letters on the Web site satisfies the Section 309(a) requirement to make EPA's comments on EISs available to the public. Accordingly, on March 31, 2010, EPA discontinued the publication of the notice of availability of EPA comments in the Federal Register.

EIS No. 20100217, Draft Supplement, USFS, MT, Young Dodge Project, Proposed Timber Harvest and Associate Activities, Updated Information on the First 3 Alternatives, Prescribed Burning, Road and Recreation Management, Kootenai National Forest, Rexford Ranger District, Lincoln County, MT, Comment Period Ends: 08/02/2010, Contact: Ron Komac 406-296-2536.

EIS No. 20100218, Final EIS, BR, CA, North Bay Water Recycling Program (NBWRP), (Formerly North San Pablo Bay Restoration and Reuse Project), Proposed to Promote the Expanded Beneficial Use of Recycled Water, North Marin Water District, Napa County, CA, Wait Period Ends: 07/19/2010, Contact: David White 916-978-5074.

EIS No. 20100219, Draft Supplement, USFS, WY, Upper Green River Area Rangeland Project, Updated Information to the Analyze the Effects of Domestic Livestock Grazing in the Upper Green River Area, Bridger-Teton Forest, Sublette, Teton and Fremont Counties, WY, Comment Period Ends: 08/02/2010, Contact: Dave Booth 307-367-4326.

EIS No. 20100220, Final Supplement, FSA, 00, PROGRAMMATIC—Conservation Reserve Program (CRP), Implement Certain Changes to the CRP as Enacted by Congress in the 2008 Farm Bill, in the United States, Wait Period Ends: 07/19/2010, Contact: Matthew T. Ponish 202-720-6853.

EIS No. 20100221, Draft EIS, NPS, IL, Lincoln Home National Historic Site, General Management Plan, Implementation, Sangamon County, Springfield, IL, Comment Period Ends: 08/16/2010, Contact: Nick Chevance 402-661-1844.

EIS No. 20100222, Draft EIS, USFS, OR, Mill Creek Allotment Management Plans Project, Reauthorization of Grazing Permit on Five Grazing Allotments, Lookout Mountain Ranger District, Ochoco National Forest, Crook County, OR, Comment Period Ends: 08/02/2010, Contact: Marcy Anderson 541-416-6463.

EIS No. 20100223, Draft EIS, GSA, CA, Calexico West Land Port of Entry in Calexico, Expansion of the Reconfiguration, Implementation, CA, Comment Period Ends: 08/16/2010, Contact: Greg Smith 619-557-6169.

EIS No. 20100224, Final EIS, USACE, CA, Newhall Ranch Resource Management and Development Plan (RMDP) and the Spineflower Conservation Plan (SCP), Implementation, Portion of Santa Clara River Valley, Los Angeles County, CA, Wait Period Ends: 07/19/2010, Contact: Dr. Aaron O. Allen 805-585-2148.

Amended Notices

EIS No. 20100208, Final EIS, USA, VA, Fort Monroe US Army Garrison Base Realignment and Closure (BRAC) 2005 Disposal and Reuse of Surplus Nonreverting Property, Fort Monroe, VA, Wait Period Ends: 07/12/2010, Contact: Bob Ross 703-602-2878.

Revision to FR Notice Published 06/11/2010: Correction to document status from draft to final.

Dated: June 15, 2010.
Ken Mittelholtz,
Deputy Director, NEPA Compliance Division, Office of Federal Activities.

[FR Doc. 2010-14767 Filed 6-17-10; 8:45 am]

BILLING CODE 6560-50-P